DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 18, 2007.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://dms.dot.gov.

This notice of receipt of applications for special permit is published in accordance with Part 107 of the Federal hazardous materials transportation law (49 U.S.C. 5117(b); 49 CFR 1.53(b)).

Issued in Washington, DC, on September 12, 2007.
Delmer F. Billings,
Director, Office of Hazardous Materials, Special Permits and Approvals.

Application No. | Docket No. | Applicant | Regulation(s) affected | Nature of special permits thereof
New Special Permits
14566-N |  | Nantog CIMC Tank Equipment Co. Ltd | 49 CFR 178.276(a)(1) | To authorize the manufacture, marking, sale and use of certain UN T50 steel portable tanks manufactured in accordance with Section VIII, Division 1 of the ASME Code. (modes 1, 2, 3).
14569-N |  | Marine Exchange of Alaska, Juneau, AK | 49 CFR 176.83 | To authorize the transportation of certain explosives by cargo vessel in alternative stowage configurations. (mode 3).
14570-N |  | DuPont SHE Excellence Center, Wilmington, DE, DE | 49 CFR 179.13 | To authorize the transportation in commerce of Titanium tetrachloride in DOT specification 105J600W tank car tanks that exceed the maximum allowable gross weight on rail (263,000 lbs.). (mode 2).
14571-N |  | Dynetek Industries Ltd., Calgary Alberta, Canada | 19 CFR 178.276(a)(1) | To authorize the manufacture, marking, sale and use of DOT-CFFC specification fully wrapped carbon fiber reinforced aluminum lined cylinders mounted in protective framework for use in transporting Division 2.1 and 2.2 hazardous materials. (modes 1, 2, 3, 4, 5).
14572-N |  | WEW Westerwaelder Eisenwerk, Weitefeld, Germany | 49 CFR 178.276(b)(1) | To authorize the manufacture, marking, sale, and use of UN T50 tanks designed and constructed in accordance with Section VIII, Division 2 of the ASME code. (modes 1, 2, 3).
14573-N |  | Polar Tank Trailer, LLC, Holdingford, MN | 49 CFR 178.345-2 | To authorize the manufacture, marking, sale and use of cargo tank motor vehicles conforming in all respects to DOT 406, 407 or 412 specification cargo tanks except that the use of UNS S32003 and UNS S32101 stainless steel is authorized. (mode 1).
14574-N |  | Air Products and Chemicals, Inc., Allentown, PA | 49 CFR 180.407(c), (e) and (f) | To authorize the transportation of certain lined DOT Specification MC 312 and DOT 412 cargo tanks which are not subject to the internal visual inspections for use in transporting certain Class 8 hazardous materials. (mode1).
14575-N |  | Anderson Chemical Company, Litchfield, MN | 49 CFR 177.848 | To authorize the transportation in commerce of certain Division 5.1 oxidizing materials with Class 8 corrosive liquids on the same motor vehicle with alternative segregation requirements. (mode 1).
14576-N |  | Structural Composites Industries (SCI), Pomona, CA | 49 CFR 173.302a and 173.304a | To authorize the manufacture, marking, sale and use of aluminum-lines carbon-fiber composite cylinders for use in transporting certain Division 2.1 and 2.2 hazardous materials. (modes 1, 2, 3, 4).
14578-N |  | Nantong CIMC Tank Equipment Co. Ltd, Kiangsu, China | 49 CFR 178.276 | To authorize the manufacture, marking, sale and use of non-DOT specification portable tanks mounted within an ISO frame that have been designed, constructed and stamped in accordance with Section VIII, Division 2 of the ASME Code. (modes 1, 2, 3)
14582-N |  | Matheson Tri-Gas, Inc., Basking Ridge, NJ | 49 CFR 172.101 | To authorize the transportation in commerce of cylinders containing certain compressed gases, for which the proper shipping names have been removed from the Hazardous Materials Regulations, with the old labels and shipping descriptions. (modes 1, 2, 3, 4, 5).

[FR Doc. 07-4601 Filed 9-17-07; 8:45 am]

BILLING CODE 4909-60-M